DEPARTMENT OF COMMERCE

Office of the Secretary

[Docket No. DOC-2025-0076]

Privacy Act of 1974: System of Records

AGENCY: U.S. Department of Commerce.

ACTION: Notice of modified systems of records.

SUMMARY: In accordance with the Privacy Act of 1974, as amended, the Department of Commerce is modifying 16 systems of records, listed below, to add a new routine use that allows information in each system to be disclosed to the Department of the Treasury for purposes of identifying, preventing, or recouping improper payments through Treasury's Do Not Pay Working System. This modification makes no other changes to those systems. This notice describes the new routine use and identifies the affected systems.

DATES: Comments on this routine use must be received on or before February 19, 2026. In accordance with 5 U.S.C. 552a(e)(4) and (11), this routine use will go into effect without further notice on February 24, 2026.

ADDRESSES: You may submit comments, identified as pertaining to “E.O. 14249, Protecting America's Bank Account Against Fraud, Waste, and Abuse Commerce Routine Use,” via the Federal Rulemaking Portal: http://www.regulations.gov. All submissions received must include the agency name and docket number for this Federal Register document. The general policy for comments and other submissions from members of the public is to make these submissions available for public viewing on the internet at http://www.regulations.gov as they are received without change. Therefore, do not include any personal identifiers, contact information, or other non-public information.

FOR FURTHER INFORMATION CONTACT: Dr. Brian Anderson, Privacy Act Officer, Office of Privacy and Open Government, 1401 Constitution Ave. NW, Room 61025, Washington, DC 20230, privacyact@doc.gov or call: 202-482-8294.

SUPPLEMENTARY INFORMATION: On March 25, 2025, the President signed Executive Order (E.O.) 14249, Protecting America's Bank Account Against Fraud, Waste, and Abuse, which requires Executive Branch agencies to “review and modify, as applicable, their relevant system of records notices under the Privacy Act of 1974 to include a `routine use' that allows for the disclosure of records to the Department of the Treasury for the purposes of identifying, preventing, or recouping fraud and improper payments, to the extent permissible by law.” On August 20, 2025, OMB issued Memorandum M-25-32, Preventing Improper Payments and Protecting Privacy Through Do Not Pay, which provides guidance to agencies for implementing the new routine use requirement under E.O. 14249. The memorandum requires agencies to identify systems of records that maintain information “whose disclosure to Treasury would be relevant and necessary for identifying, preventing, or recouping improper payments by reviewing payment and award eligibility through the Do Not Pay Working System” and add a new routine use to each identified system to allow such disclosure. See OMB M-25-32, Appendix 1. Accordingly, this notice hereby modifies 16 systems of records, listed below, to add the new routine use prescribed by OMB to each of those systems, as set forth below. In accordance with 5 U.S.C. 552a(r), the Department has provided a report of these modified systems of records to Congress and to OMB.

The following systems of records are modified by this notice:

System No.* and name | Federal Register citation(s)
The preface “COMMERCE/” followed by: |
DEPT-1, Attendance, Leave, and Payroll Records of Employees and Certain Other Persons | 79 FR 36459, June 27, 2014; 79 FR 47436, Aug. 13, 2014.
DEPT-2, Accounts Receivable | 68 FR 35849, June 17, 2003; 72 FR 45009, Aug. 10, 2007.
DEPT-9, Travel Records (Domestic and Foreign) of Employees and Certain Other Persons | 46 FR 63498, Dec. 31, 1981; 50 FR 9099, March 6, 1985; 72 FR 45009, Aug. 10, 2007.
DEPT-14, Litigation, Claims, and Administrative Proceeding Records | 46 FR 63498, Dec. 31, 1981; 65 FR 21168, May 22, 2000; 72 FR 45009, Aug. 10, 2007.
DEPT-15, Private Legislation Claimants-Central Legislative Files | 46 FR 63498, Dec. 31, 1981; 72 FR 45009, Aug. 10, 2007.
DEPT-17, Records of Cash Receipts | 46 FR 63498, Dec. 31, 1981; 50 FR 9099, March 6, 1985; 72 FR 45009, Aug. 10, 2007.
DEPT-18, Employees Personnel Files not Covered by Notices of Other Agencies | 68 FR 35852, June 17, 2003; 72 FR 38361, July 6, 2006; 71 FR 71506, Dec. 11, 2006; 72 FR 6200, Feb. 9, 2007; 72 FR 45009, Aug. 10, 2007.
DEPT-22, Small Purchase Records | 58 FR 37460, July 12, 1993; 72 FR 45009, Aug. 10, 2007.
DEPT-32, Helping American Victims Affected by Neurological Attacks Act of 2021 (HAVANA Act) Records | 88 FR 24972, April 25, 2023.
NIST-8, Child Care Subsidy Program Records | 80 FR 40995, July 14, 2015; 80 FR 51533, Aug. 25, 2015.
NOAA-3, NOAA Corps Officer Official Personnel Folders | 81 FR 27083, May 5, 2016.
NOAA-5, Fisheries Law Enforcement Case Files | 46 FR 63498, Dec. 31, 1981; 51 FR 44822, Dec. 12, 1986; 72 FR 45009, Aug. 10, 2007.
NOAA-13, Personnel, Payroll, Travel, and Attendance Records of the Regional Fishery Management Councils | 46 FR 63498, Dec. 31, 1981; 72 FR 45009, Aug. 10, 2007.
NOAA-14, Dr. Nancy Foster Scholarship Program; Office of Education, Education Partnership Program (EPP), Ernest F. Hollings Undergraduate Scholarship Program and National Marine Fisheries Service Recruitment, Training, and Research Program | 80 FR 55829, Sep. 17, 2015; 80 FR 65983, Oct. 28, 2015.
NOAA-21, Financial Services Division | 81 FR 44593, July 8, 2016.
USPTO-10, Fee Management Products | 89 FR 32400, April 26, 2024.
* Note: The Department uses the following format for system numbers: COMMERCE/[“DEPT” or component acronym]-[#]. The abbreviation “DEPT” is for Department-wide systems. For the component-level systems listed above, the acronyms are: “NIST” for National Institute of Standards and Technology; “NOAA” for National Oceanic and Atmospheric Administration; and “USPTO” for U.S. Patent and Trademark Office. Further information about these systems is available at: https://www.commerce.gov/opog/privacy/SORN.

SECURITY CLASSIFICATION:

Please refer to the Federal Register citations in the table above.

SYSTEM LOCATION:

Please refer to the Federal Register citations in the table above.

SYSTEM MANAGER(S):

Please refer to the Federal Register citations in the table above.

* * * * *

ROUTINE USES OF RECORDS MAINTAINED IN THE SYSTEM, INCLUDING CATEGORIES OF USERS AND THE PURPOSES OF SUCH USES:

Each system of records listed in the table above is modified to add the new routine use set forth below. All other routine uses in each of those systems are unchanged and remain in effect. The new routine use is as follows:

* * * * *

To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

* * * * *

HISTORY:

Please refer to the Federal Register citations in the table above.

Nicholas J. Cormier,
Acting Chief Privacy Officer and Director of Open Government, Office of Privacy and Open Government, U.S. Department of Commerce.

[FR Doc. 2026-00996 Filed 1-16-26; 8:45 am]

BILLING CODE 3510-17-P